DEPARTMENT OF THE INTERIOR

National Park Service

Minor Boundary Revision at Fort Moultrie Unit of Fort Sumter National Monument

AGENCY: National Park Service, Interior.

ACTION: Announcement of park boundary revision.

SUMMARY: Notice is given that the boundary of the Fort Moultrie Unit of Fort Sumter National Monument has been revised pursuant to the Acts specified below to encompass lands depicted on drawing 392/92,002A of Fort Sumter National Monument (which includes Fort Moultrie) prepared by the National Park Service. The revision to the boundary includes tract 01-109, as depicted on the map.

FOR FURTHER INFORMATION CONTACT: Superintendent; Fort Sumter National Monument; 1214 Middle Street; Sullivan's Island, South Carolina 29482

SUPPLEMENTARY INFORMATION: The Joint Resolution of April 28, 1948, (Pub. L. 80-504, 62 Stat. 204) authorized the establishment of Fort Sumter National Monument. Fort Moultrie was acquired under authority of the 1935 Historic Sites Act (45 Stat 666, 16 U.S.C. 461 et seq.). Sections 7(c)(i) and 7(c)(ii) of the Land and Water Conservation Fund Act, as amended by the Act of June 10, 1977 (Pub. L. 95-42, 91 Stat. 210), and the Act of March 10, 1980 (Pub. L. 103-333, 110 Stat. 4194), further authorized the Secretary of the Interior to make minor revisions in the boundaries whenever the Secretary determines that it is necessary for the preservation, protection, interpretation or management of an area.

The map is on file and available for inspection in the Land Resources Program Center, Southeast Regional Office, 100 Alabama Street, SW., Atlanta, Georgia 30303, and in the Offices of the National Park Service, Department of the Interior, Washington DC 20013-7127.

Dated: August 19, 2005.
Patricia A. Hooks,
Regional Director, Southeast Region.

[FR Doc. 05-20918 Filed 10-18-05; 8:45 am]

BILLING CODE 4312-52-P